DEPARTMENT OF LABOR

Office of the Secretary

Submission for OMB review; comment request

September 26, 2002.

The Department of Labor (DOL) has submitted the following public information collection requests (ICRs) to the Office of Management and Budget (OMB) for review and approval in accordance with the Paperwork Reduction Act of 1995 (Pub. L. 104-13, 44 U.S.C. Chapter 35). A copy of each ICR, with applicable supporting documentation, may be obtained by calling the Department of Labor. To obtain documentation contact Darrin King at (202) 693-4129 or e-Mail King-Darrin@dol. gov.

Comments should be sent to Office of Information and Regulatory Affairs, Attn: Stuart Shapiro, OMB Desk Officer for MSHA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Quarterly Mine Employment and Coal Production Report.

OMB Number: 1219-0006.

Affected Public: Business or other for-profit.

Frequency: Quarterly.

Number of Respondents: 24,604.

Number of Annual Responses: 86,158.

Estimated Time Per Response: 30 minutes for hardcopy filings and 15 minutes for electronic filings.

Total Burden Hours: 41,155.

Total Annualized Capital/Startup Costs: $0.

Total Annual Costs (operating/maintaining systems or purchasing services): $27,236.

Description: The reporting and record keeping provisions in 30 CFR 50, Notification, Investigation, Reports and Records of Accidents, Injuries and Illnesses, Employment and Coal Production in Mines, are essential elements in MSHA's Congressional mandate to reduce work-related injuries and illnesses among the nation's miners.

Section 30 CFR 50.30(a) requires mine operators and independent contractors working on mine property to report quarterly employment and coal production to MSHA on Form 7000-2. MSHA tabulates and analyzes the information from this form along with data from MSHA Form 7000-1, Mine Accident, Injury, and Illness Report (OMB No. 1219-0007), to compute incidence and severity rates for various injury types. These rates are used to analyze trends and to assess the degree of success of the health and safety efforts of MSHA and the mining industry.

Employment and production data when correlated with accident, injury, and illness data provide information that allows MSHA to improve its safety and health enforcement programs, focus its education and training efforts, and establish priorities for its technical assistance activities in mine safety and health. Maintaining a current database allows MSHA to identify and direct increased attention to those mines, industry segments, and geographical areas where hazardous trends are developing.

MSHA Form 7000-2 is also a source of national coal production data, allowing MSHA to analyze the relationship between production and health and safety. Coal production data are also used to determine the sizes of coal mines for assessment purposes.

Section 103(d) of the Federal Mine Safety and Health Act of 1977 (Mine Act) requires operators to report employee hours worked. Section 103(h) of the Mine Act requires operators to keep any records and make any reports that are reasonably necessary for MSHA to perform its duties under the Mine Act.

Data collected through MSHA Form 7000-1 (OMB # 1219-0007) and MSHA Form 7000-2 enable MSHA to publish timely quarterly and annual statistics, reflecting current safety and health conditions in the mining industry. The data gathered from this collection provides MSHA with the figures upon which to base its incidence rate calculations and trend analyses. These data are used not only by MSHA, but also by other Federal and State agencies, health and safety researchers, and the mining community to assist in measuring and comparing the results of health and safety efforts both in the United States and internationally.

Coal production data are used in various analyses that range from a comparative nature to complex modeling—such as the Cost of Injury Model developed through research. Additionally, this information impacts the evaluation and review of MSHA's regulations, the development of new safety and health standards, and the evaluation of MSHA's programs.

Quarterly employment and worktime information provide control figures on which MSHA can base its incidence rate calculations and trend analyses. The employment data are used to normalize injury experience so that mines of different sizes can be compared and also to compare experience for different time periods.

MSHA tabulates and analyzes the information from MSHA Form 7000-2, along with that from MSHA Form 7000-1, Mine Accident, Injury, and Illness Report, to compute incidence and severity rates for various injury types.

MSHA uses this information to direct its inspection and assistance activities to those mines, industry segments, and geographical areas which the current data demonstrate as having particular problems. Injury rates must be computed at least quarterly for MSHA to target its enforcement and assistance resources. Less frequent data collection would neither be timely nor statistically valid for this purpose.

Agency: Mine Safety and Heath Administration (MSHA).

Type of Review: Extension of a currently approved collection.

Title: Mine Accident, Injury and Illness Report.

OMB Number: 1219-0007.

Affected Public: Business or other for-profit.

Frequency: On occasion.

Number of Respondents: 4,174.

Requirement | Annual responses | Average response time (hours) | Annual burden hours
Immediate Notification of MSHA—30 CFR 50.10:
Fatal Accidents | 72 | 0.50 | 36
Other Accidents | 1,813 | 0.50 | 907
Investigation of Accidents and Occupational Injuries—30 CFR 50.11(b):
Fatal Accidents | 72 | 80.00 | 5,760
Nonfatal Accidents | 78 | 16.00 | 1,248
Other Occurrences | 15,592 | 1.00 | 15,592
Separate Investigation Reports—30 CFR 50.11(b):
Fatal Accidents | 56 | 4.00 | 224
Other Occurrences | 14,468 | 1.00 | 14,468
Mine Accident, Injury, and Illness Reports—30 CFR 50.20:
Initial Reports | 17,555 | 0.50 | 8,778
Follow-up Reports | 8,518 | 0.33 | 2,811
Total | 58,224 |  | 49,823

Total Annualized Capital/Startup Costs: $0.

Total Annual Costs (operating/maintaining systems or purchasing services): $12,914.

Description: The reporting and recordkeeping provisions in 30 CFR 50, Notification, Investigation, Reports and Records of Accidents, Injuries and Illnesses, Employment and Coal Production in Mines, are essential elements in MSHA's Congressional mandate to reduce work-related injuries and illnesses among the nation's miners.

Section 50.10 requires mine operators and mining contractors to immediately notify MSHA in the event of an accident. This immediate notification is critical to MSHA's timely investigation and assessment of the probable cause of the accident.

Section 50.11 requires that the operator or contractor investigate each accident and occupational injury and prepare a report. The operator or contractor may not use MSHA Form 7000-1 as a report, unless the mine employs fewer than 20 miners and the occurrence involves an occupational injury not related to an accident.

Section 50.20(a) requires mine operators and mining contractors to report each accident, injury, or illness to MSHA on Form 7000-1 within 10 working days after an accident or injury has occurred or an occupational illness has been diagnosed. The use of MSHA Form 7000-1 provides for uniform information gathering across the mining industry.

MSHA tabulates and analyzes the information from MSHA Form 7000-1, along with data from MSHA Form 7000-2, Quarterly Mine Employment and Coal Production Report (OMB No. 1219-0006), to compute incidence and severity rates for various injury types. These rates are used to analyze trends and to assess the degree of success of the health and safety efforts of MSHA and the mining industry.

Accident, injury, and illness data when correlated with employment and production data provide information that allows MSHA to improve its safety and health enforcement programs, focus its education and training efforts, and establish priorities for its technical assistance activities in mine safety and health. Maintaining a current database allows MSHA to identify and direct increased attention to those mines, industry segments, and geographical areas where hazardous trends are developing. This could not be done effectively utilizing historical data. The information collected under Part 50 is the most comprehensive and reliable occupational data available concerning the mining industry.

Section 103(d) of the Federal Mine Safety and Health Act of 1977 (Mine Act) mandates that each accident be investigated by the operator to determine the cause and means of preventing a recurrence. Records of such accidents and investigations shall be kept and made available to the Secretary or his authorized representative and the appropriate State agency. Section 103(h) requires operators to keep any records and make any reports that are reasonably necessary for MSHA to perform its duties under the Mine Act. Section 103(j) of the Mine Act requires operators to notify MSHA of the occurrence of an accident and to take appropriate measures to preserve any evidence which would assist in the investigation into the cause or causes of the accident.

Data collected through MSHA Form 7000-1 and MSHA Form 7000-2 enable MSHA to publish timely quarterly and annual statistics, reflecting current safety and health conditions in the mining industry. These data are used not only by MSHA, but also by other Federal and State agencies, health and safety researchers, and the mining community to assist in measuring and comparing the results of health and safety efforts both in the United States and internationally.

MSHA tabulates and analyzes information from MSHA Form 7000-1, along with that from MSHA Form 7000-2, Quarterly Mine Employment and Coal Production Report, to derive quarterly evaluations of normalized injury and illness experience at the nation's mines. These data allow MSHA to detect accident, injury, and illness trends ascribable to specific mine sites, types of mining, work locations, or tasks.

MSHA uses this information to target its inspection and assistance activities toward those mines, industry segments, and geographical areas which the current data demonstrate as having particular problems. Injury rates must be computed at least quarterly for MSHA to target its enforcement and assistance resources. Less frequent data collection would neither be timely nor statistically valid for this purpose.

The mining industry also uses this quarterly injury incidence data in its efforts to reduce injuries and illnesses. MSHA's compilations are the only source of information which permits a particular mining operation to compare its record with that of similar mines.

Ira Mills,
Departmental Clearance Officer.

[FR Doc. 02-25379 Filed 10-4-02; 8:45 am]

BILLING CODE 4510-43-M